DEPARTMENT OF COMMERCE

International Trade Administration

[A-570-863]

Honey From the People's Republic of China: Partial Rescission of Antidumping Duty New Shipper Review

AGENCY: Import Administration, International Trade Administration, Department of Commerce.

ACTION: Notice of partial rescission of the antidumping duty new shipper review of honey from the People's Republic of China.

SUMMARY: On August 6, 2002, the Department of Commerce published the initiation of the new shipper reviews of the antidumping duty order on honey from the People's Republic of China. The review covers Chengdu-Dujiangyan Dubao Bee Industrial Co., Ltd., and Wuhan Bee Healthy Co., Ltd. The period of review is December 1, 2001, through May 31, 2002. For the reasons discussed below, we are rescinding the review of Chengdu-Dujiangyan Dubao Bee Industrial Co., Ltd.¹

¹ We are continuing the new shipper review of the antidumping duty order on honey from the People's Republic of China for Wuhan Bee Healthy Co., Ltd.

EFFECTIVE DATE: January 30, 2003.

FOR FURTHER INFORMATION CONTACT: Angelica Mendoza or Donna Kinsella at (202) 482-3019 and (202) 482-0194, respectively; AD/CVD Enforcement, Office 8, Group III, Import Administration, International Trade Administration, U.S. Department of Commerce, 14th Street and Constitution Avenue, NW., Washington, DC 20230.

SUPPLEMENTARY INFORMATION:

The Applicable Statute and Regulations

Unless otherwise indicated, all citations to the Tariff Act of 1930, as amended (the Act), are references to the provisions effective January 1, 1995, the effective date of the amendments made to the Act by the Uruguay Round Agreements Act. In addition, unless otherwise indicated, all citations to the Department of Commerce's (the Department's) regulations are to 19 CFR part 351 (April 2002).

Scope of the Order

The products covered by this antidumping duty order are natural honey, artificial honey containing more than 50 percent natural honey by weight, preparations of natural honey containing more than 50 percent natural honey by weight, and flavored honey. The subject merchandise includes all grades and colors of honey whether in liquid, creamed, comb, cut comb, or chunk form, and whether packaged for retail or in bulk form. The merchandise subject to this order is currently classifiable under subheadings 0409.00.00, 1702.90.90, and 2106.90.99 of the Harmonized Tariff Schedule of the United States (HTSUS). Although the HTSUS subheadings are provided for convenience and U.S. Customs Service (U.S. Customs) purposes, the Department's written description of the merchandise under order is dispositive.

Background

On June 28, 2002, Chengdu-Dujiangyan Dubao Bee Industrial Co., Ltd. (Dubao), a producer and exporter of subject merchandise, submitted a request for a new shipper review. Dubao certified in its new shipper review request that (1) it did not export honey to the United States during the period of investigation (POI), (2) it has never been affiliated with any exporter or producer which did export honey during the POI, and (3) its export activities are not controlled by the central government of the People's Republic of China (PRC). Based on Dubao's certifications, the Department initiated a new shipper review of the antidumping duty order on honey from the PRC for “Chengdu-Dujiangyan Dubao Bee Industrial Co., Ltd.” for the time period December 1, 2001, through May 31, 2002. See Honey from the People's Republic of China: Initiation of New Shipper Antidumping Duty Reviews, 67 FR 50862 (August 6, 2002).

On November 21, 2002, Dubao informed the Department that its counsel incorrectly referred to Dubao as “Chengdu-Dujiangyan Dubao Bee Industrial Co., Ltd.” in its submissions to the Department. Dubao claims that the correct name of the company is “Sichuan-Dujiangyan Dubao Bee Industrial Co., Ltd.” We did not receive any comments from the American Honey Producers Association nor the Sioux Honey Association (collectively, petitioners) on this issue.

Rescission of Review

Dubao did not provide the Department with the correct certifications required under 351.214(b)(2) of the Department's regulations for a new shipper review. The Department's regulations at 19 CFR 351.214(b)(2) state that, if the company requesting the review is both the exporter and the producer of the subject merchandise, then the request from this company must contain a certification that the company did not export subject merchandise to the United States during the POI. In addition, those regulations require that the request for the new shipper review contain a certification that the exporter or producer has never been affiliated with any exporter or producer that exported subject merchandise to the United States during the POI. Moreover, those regulations further specify that, in an antidumping proceeding involving imports from a nonmarket economy country, the request for a new shipper review must also contain a certification that the export activities of the exporter or producer are not controlled by the central government.

As noted above, Dubao failed to identify the correct name of the exporter and producer of the subject merchandise for purposes of its required certifications. Therefore, we find it appropriate to rescind the new shipper review of Dubao based on its failure to provide the proper certifications pursuant to 19 CFR 351.214(b)(2).

Notification

Bonding is no longer permitted to fulfill security requirements for shipments from Dubao of honey from the PRC entered, or withdrawn from warehouse, for consumption in the United States on or after the publication of this rescission notice in the Federal Register.

This notice also serves as the only reminder to parties subject to administrative protective orders (APO) of their responsibility concerning the disposition of proprietary information disclosed under APO in accordance with 19 CFR 351.305(a)(3). Timely written notification of the return/destruction of APO material or conversion to judicial protective order is hereby requested. Failure to comply with the regulations and terms of an APO is a violation which is subject to sanctions.

We are issuing and publishing this determination and notice in accordance with sections 751(a)(2)(B)(iv) and 777(i) of the Tariff Act of 1930, as amended.

Dated: January 23, 2003.
Faryar Shirzad,
Assistant Secretary for Import Administration.

[FR Doc. 03-2104 Filed 1-29-03; 8:45 am]

BILLING CODE 3510-DS-P